DEPARTMENT OF ENERGY

Office of Energy Efficiency and Renewable Energy

Proposed Agency Information Collection Extension

AGENCY: Office of Energy Efficiency and Renewable Energy, U.S. Department of Energy (DOE).

ACTION: Submission for Office of Management and Budget (OMB) review; comment request.

SUMMARY: The Department of Energy has submitted to the OMB for clearance, a proposal to amend an information collection request by adding an additional collection to an ICR that already includes two previously approved collections. The two previously approved collections address DOE's Plug-in Electric Vehicle (PEV) Scorecard, and the National Clean Fleets Partnership. DOE is not proposing to expand the scope of these information collection efforts. The proposed new collection is entitled “Ride and Drive Surveys for PEV Showcases”. DOE's Clean Cities initiative has developed a three-part voluntary ride-and-drive survey to assist its coalitions and stakeholders in assessing the level of interest, understanding, and acceptance of PEVs and alternative fuel vehicles (AFV) by the purchasing public. The principal objective of the Survey is to provide DOE and stakeholders with an objective assessment and estimate of how ready the purchasing public is for PEVs, and to help DOE's Clean Cities coalitions prepare for the successful deployment of these vehicles. DOE intends the surveys to be completed by individuals who are participating in one of many ride-and-drive events.

DATES: Comments regarding this proposed information collection must be received on or before December 21, 2016. If you anticipate difficulty in submitting comments within that period, contact the person listed below as soon as possible.

ADDRESSES: Written comments should be sent to:

Desk Officer for the Department of Energy, Office of Information and Regulatory Affairs, Office of Management and Budget, New Executive Office Building, Room 10102, 735 17th Street NW., Washington, DC 20503.

And to

Mr. Dennis Smith, Office of Energy Efficiency and Renewable Energy (EE-3V), U.S. Department of Energy, 1000 Independence Avenue SW., Washington, DC 20585-0121, or by fax at 202-586-1600, or by email at cleancitiesinfo@ee.doe.gov.

FOR FURTHER INFORMATION CONTACT: Mr. Dennis Smith at the address listed above in ADDRESSES.

SUPPLEMENTARY INFORMATION: The amended information collection request contains (1) OMB No. 1910-5171; (2) Information Collection Request Title: Clean Cities Vehicle Programs; (3) Type of Review: Amended collection; (4) Purpose: As part of DOE's Office of Vehicle Technologies 2016 Funding Opportunity Announcement (FOA) awards, DOE is awarding entities funding to run PEV showcases where drivers can experience driving a variety of PEVs and learn about charging electric vehicles. These awards are 50 percent cost share awards, meaning that recipients of an award under this FOA must supply 50 percent of the funds to complete each awarded project. Projects undertaken pursuant to this FOA are expected to include a survey component related to potential vehicle driver behavior. Thus, the DOE Clean Cities program has developed an initiative, the Ride and Drive Surveys for PEV Showcases, that includes a three-part voluntary ride-and-drive survey to assist its coalitions and stakeholders in assessing the level of interest, understanding, and acceptance of AFVs by the purchasing public. The principal objective of the Surveys is to provide DOE and stakeholders with an objective assessment and estimate of how ready the purchasing public is for PEVs, and to help DOE's Clean Cities coalitions prepare for the successful deployment of these vehicles.

For the Ride and Drive Surveys for PEV Showcases collection, the effort will target public citizens who are participating in one of many Ride-and-Drive events. There are three phases to the Survey: (1) Pre Ride-and-Drive; (2) post Ride-and-Drive; and (3) a few months/some time later to discern if the respondent followed through with acquisition of a PEV or another AFV. Respondents would provide answers in the first two phases through a user-friendly paper survey and on-line survey, and in the third phase they would answer questions via an electronic interface, although a paper survey may be used for those lacking access to an electronic device or computer.

The Surveys' effort will rely on responses to questions the respondent chooses to answer. The multiple-choice questions will address the following topic areas: (1) Demographics; (2) Current vehicle background; (3) How they learned about ride and drive event; (3) Perceptions of PEVs before and after driving; (4) Post-drive vehicle experience; (5) Purchase expectations; (6) Follow-up survey on purchases; (7) Purchase information; (8) Barriers; and (9) Future intentions.

DOE expects a total respondent population for the amended collection (which would include the three collections) of approximately 16,250 respondents (an increase of 15,000 over the number of respondents for the two currently approved collections). Selecting the multiple choice answers in completing the three components of the Survey is expected to take 30 minutes, leading to a total burden of approximately 28,250 hours (an increase 2,500 hours above the total burden in hours for the two currently approved collections).

(5) Type of Respondents: Public; (6) Annual Estimated Number of Respondents for all three information collections: 16,250; (7) Annual Estimated Number of Total Responses: 16,300; (7) Annual Estimated Number of Burden Hours: 28,250 (25,625 for PEV Scorecard, 125 for Clean Fleets Partnership, and 2,500 for the Ride and Drive Surveys for PEV Showcases); and (8) Annual Estimated Reporting and Recordkeeping Cost Burden: There is no cost associated with reporting and recordkeeping.

Statutory Authority: 42 U.S.C. 13233; 42 U.S.C. 13252 (a)-(b); 42 U.S.C. 13255.

Issued in Washington, DC, on November 15, 2016.
Michael Berube,
Director, Vehicle Technologies Office, Energy Efficiency and Renewable Energy.

[FR Doc. 2016-27939 Filed 11-18-16; 8:45 am]

BILLING CODE 6450-01-P